DEPARTMENT OF JUSTICE

Notice of Lodging of Consent Decree Under the Comprehensive Environmental Response, Compensation, and Liability Act (“CERCLA”)

Under the policy set out at 28 CFR 50.7, notice is hereby given that on August 2, 2005, the United States lodged with the United States District Court for the District of Montana a proposed consent decree (“Consent Decree”) in the case of United States v. Atlantic Richfield Company et al., Civil Action No. CV-89-39-BU-SEH. The Consent Decree pertains to the Milltown Reservoir Sediments Operable Unit (the “Milltown Site”) in southwestern Montana. The settlement would resolve the claims brought by the United States against the Atlantic Richfield Company and NorthWestern Corporation under Section 107 of the Comprehensive Environmental Response, Compensation and Liability Act of 1980, as amended (“CERCLA”), 42 U.S.C. 9607, for the recovery of costs incurred and to be incurred in responding to releases and threatened releases of hazardous substances at the Milltown Site. Under the terms of the proposed Consent Decree, Atlantic Richfield and NorthWestern will implement EPA's cleanup plan for the Milltown Site, reimburse certain EPA response costs related to the Milltown Site, and contribute toward the State of Montana's natural resource restoration plan for the Milltown site. The United States, on behalf of certain federal agencies against which Atlantic Richfield asserted counterclaims, will also be contributing toward the reimbursement of EPA's response costs.

The Department of Justice will receive for a period of thirty (30) days from the date of this publication comments relating to the Consent Decree. Comments should be addressed to the Deputy Assistant Attorney General, Environment and Natural Resources Division, P.O. Box 7611, U.S. Department of Justice, Washington, DC 20044-7611, and should refer to United States v. ARCO, DOJ Case Number 90-11-2-430.

The proposed Consent Decree may be examined at the office of the United States Attorney for the District of Montana, 2929 Third Avenue North, Suite 400, Billings, Montana 59101, and at U.S. EPA Region VIII Montana Office, Federal Building, 10 West 15th Street, Suite 3200, Helena, Montana 59624. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree, please reference United States v. ARCO, DOJ Case Number 90-11-2-430, and enclose a check in the amount of $10.00 (25 cents per page reproduction cost) payable to the U.S. Treasury.

Robert D. Brook,
Assistant Chief, Environmental Enforcement Section, Environment and Natural Resources Division.

[FR Doc. 05-16348 Filed 8-17-05; 8:45 am]

BILLING CODE 4410-15-M